Title 3—

The President

Proclamation 7647 of February 7, 2003

Establishment of the Governors Island National Monument

By the President of the United States of America

A Proclamation

On the north tip of Governors Island, at the confluence of the Hudson and East Rivers, stand two fortifications that served as an outpost to protect New York City from sea attack. These two important historic objects, Castle Williams and Fort Jay, are part of a National Historic Landmark District designated in 1985. Between 1806 and 1811, these fortifications were constructed as part of the First and Second American Systems of Coastal Fortification. Castle Williams and Fort Jay represent two of the finest examples of defensive structures in use from the Renaissance to the American Civil War. They also played important roles in the War of 1812, the American Civil War, and World Wars I and II.

These fortifications were built on the most strategic defensive positions on the island. Fort Jay, constructed between 1806 and 1809, is on the highest point of the island from which its glacis originally sloped down to the waterfront on all sides. Castle Williams, constructed between 1807 and 1811, occupies a rocky promontory as close as possible to the harbor channels and served as the most important strategic defensive point in the entrance to the New York Harbor.

Governors Island was managed by the United States Army and the United States Coast Guard for nearly 200 years, but is no longer required for defense or Coast Guard purposes. It provides an excellent opportunity for the public to observe and understand the harbor history, its defense, and its ecology. Its proximity to lower Manhattan also makes it an appropriate location from which to reflect upon the tragic events of September 11, 2001.

Section 2 of the Act of June 8, 1906 (34 Stat. 225, 16 U.S.C. 431) (the “Antiquities Act”), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

A Governors Island National Monument was established by Proclamation 7402 of January 19, 2001, in order to protect the two fortifications. The monument, however, remained subject to Public Law 105-33, section 9101, 111 Stat. 670 (August 5, 1997), which required the entire island, including the monument lands, to be sold with a right of first offer to the State and City of New York.

WHEREAS the State and City of New York each executed a consent and waiver of the right of first offer regarding Governors Island; and

WHEREAS the portion of Governors Island described on the accompanying land description was sold to the National Trust for Historic Preservation (National Trust), on January 31, 2003, and the remainder of Governors Island was sold to the Governors Island Preservation and Education Corporation (GIPEC) of the State and City of New York, on January 31, 2003; and

WHEREAS the National Trust, on January 31, 2003, relinquished and conveyed to the United States of America all lands owned by the National Trust on Governors Island; and

WHEREAS such relinquishment and conveyance have been accepted by the Secretary of the Interior (Secretary) pursuant to the Antiquities Act; and

WHEREAS it appears that it would be in the public interest to preserve Castle Williams, Fort Jay, and certain lands and buildings necessary for the care and management of the Castle and Fort as the Governors Island National Monument;

NOW, THEREFORE, I, GEORGE W. BUSH, President of the United States of America, by the authority vested in me by section 2 of the Act of June 8, 1906 (34 Stat. 225, 16 U.S.C. 431), do proclaim that there are hereby set apart and reserved as the Governors Island National Monument for the purpose of protecting the objects identified above, all lands and interests in lands owned or controlled by the United States within the boundaries described on the accompanying land description, which is attached to and forms a part of this proclamation. The Federal land and interests in land reserved consist of approximately 22 acres, together with appurtenant easements for all necessary purposes and any associated federally owned personal property of historic interest, which is the smallest area compatible with the property care and management of the objects to be protected.

All Federal lands and interests in lands within the boundaries of this monument are hereby appropriated and withdrawn from all forms of entry, location, selection, sale, or leasing or other disposition under the public land laws, including but not limited to withdrawal from location, entry, and patent under the mining laws, and from disposition under all laws relating to mineral and geothermal leasing.

The Secretary shall manage the monument consistent with the purposes and provisions of this proclamation. For the purpose of preserving, restoring, and enhancing the public visitation and appreciation of the monument, the Secretary shall prepare a management plan for the monument within 3 years of the date of this proclamation. Further, to the extent authorized by law, the Secretary shall promulgate any additional regulations needed for the proper care and management of the objects identified above.

The establishment of this monument is subject to valid existing rights, if any such rights are present.

Nothing in this proclamation shall be deemed to revoke any existing withdrawal, reservation, or appropriation; however, the national monument shall be the dominant reservation.

Warning is hereby given to all unauthorized persons not to appropriate, injure, destroy, or remove any feature of this monument and not to locate or settle upon any of the lands thereof.

IN WITNESS WHEREOF, I have hereunto set my hand this seventh day of February, in the year of our Lord two thousand three, and of the Independence of the United States of America the two hundred and twenty-seventh.

B

Billing code 3195-01-P

Description of Lands in Governors Island National Monument

This document describes the lands that are set apart and reserved as the Governors Island National Monument pursuant to the accompanying proclamation. The national monument boundaries include the lands identified as Tract 01-101, Tract 01-102, Tract 01-103, and Tract 01-104. Legal descriptions of these tracts are set out below. These tracts also appear on the map entitled “Governors Island National Monument, Boundary Map,” dated August 20, 2002, map number 019/80,001A, which is attached to this document for reference purposes.

The United States owns Tract 01-101, Tract 01-102, and Tract 01-103 in fee simple. Within Tract 01-104, the United States owns a perpetual and exclusive right and easement consisting of the right, but not the obligation, to utilize, occupy, manage, reconstruct, remodel, maintain, and improve approximately 1,000 square feet on the first (1st) floor in the Building known as “Building 140” located on that portion of the land known and identified as Tract 01-104. As set out in the accompanying proclamation, the National Park Service will manage all property owned by the United States within the national monument boundary.

The national monument will also include all rights, hereditaments, easements, and appurtenances to property owned by the United States, belonging or otherwise appertaining, as well as any associated federally owned personal property of historic interest.

Tract 01-101

All that certain tract or parcel of land lying and being situated on Governors Island in the City of New York, New York County, State of New York, and being more particularly described as follows:

Beginning at a point at the intersection of the southerly side of Andes Road and the base of a concrete retaining wall on the southerly side of Andes Road, said point of beginning being South 14° 28' 10'' West, 141.01 feet from the southeasterly corner of Building 107, said point of beginning being further described as being at North 677,056.72 and East 626,751.86, said coordinates being based upon the New York State Plane Coordinates, East Zone, NAD 1983; thence from said point of beginning, severing the lands of the subject owner, the following forty four (44) courses and distances:

1. South 80° 58' 48'' East, along the said intersection of the southerly side of Andes Road and the base of a concrete retaining wall on the southerly side of Andes Road, 55.80 feet to a point;

2. South 45° 14' 55'' East, along the intersection of the base of a concrete retaining wall and sidewalk, 4.40 feet to a point;

3. South 24° 46' 24'' East, along the said intersection of the base of a concrete retaining wall and sidewalk, 13.37 feet to a point;

4. South 16° 56' 20'' East, along the said intersection of the base of a concrete retaining wall and sidewalk, 13.16 feet to a point;

5. South 10° 05' 36'' East, along the said intersection of the base of a concrete retaining wall and sidewalk, 15.64 feet to a point on the westerly edge of a brick sidewalk;

6. South 05° 40' 25'' West, along the said westerly edge of a brick sidewalk, 274.67 feet to a point;

7. North 84° 45' 49'' West, along the northerly edge of said brick sidewalk, 84.24 feet to a point;

8. South 45° 45' 14'' West, along the northwesterly edge of said brick sidewalk, 24.85 feet to a point on the back of the concrete curb on the northerly side of the cul-de-sac on Evans Road;

9. A non-tangent curve to the left, along the said back of the concrete curb on the northerly side of the cul-de-sac on Evans Road, having a radius of 34.00 feet, a central angle of 132° 11' 45'' and an arc length of 78.45 feet to a point, said curve having a chord bearing and distance of South 69° 51' 24'' West, 62.17 feet;

10. North 81° 25' 23'' West, leaving the said back of the concrete curb and crossing the Parade Ground, 764.47 feet to a point on the northeasterly face of a concrete curb on the northeasterly side of Comfort Road;

11. North 23° 06' 23'' West, along the said northeasterly face of a concrete curb on the northeasterly side of Comfort Road, 94.46 feet to a point of curve;

12. A curve to the right, along the said northeasterly face of a concrete curb on the northeasterly side of Comfort Road, having a radius of 80.00 feet, a central angle of 41° 01' 44'' and an arc length of 57.29 feet to a point of reverse curve;

13. A curve to the left, along the said northeasterly face of a concrete curb on the northeasterly side of Comfort Road, having a radius of 70.67 feet, a central angle of 41° 04' 47'' and an arc length of 50.67 feet to a point of tangent;

14. North 23° 09' 26'' West, along the intersection of the northeasterly side of Comfort Road and the said face of a concrete curb on the northeasterly side of Comfort Road, 240.84 feet to a point;

15. North 46° 15' 33'' West, along the said intersection of the northeasterly side of Comfort Road and the said face of a concrete curb on the northeasterly side of Comfort Road and its northwesterly projection thereof, 111.36 feet, crossing Tampa Road to a point at the intersection of the northerly side of an access road and the face of a concrete curb on the northerly side of the access road;

16. South 86° 21' 32'' West, along the said intersection of the northerly side of an access road and the face of a concrete curb on the northerly side of the access road and its westerly projection thereof, 133.51 feet to a point;

17. North 85° 02' 31'' West, crossing Hay Road and along the back of a concrete curb on the southerly side of an asphalt parking lot, 139.69 feet to a point at the intersection of the easterly side of an access road and the face of a concrete curb on the easterly side of the access road;

18. North 06° 11' 10'' East, along the said intersection of the easterly side of an access road and the face of a concrete curb on the easterly side of the access road, 8.97 feet;

19. North 84° 30' 23'' West, passing through a brick connecting-wall between Building 513A and Building 515, and along the back of a concrete curb, 200.29 feet to a point at the intersection of the easterly side of Carder Road and the face of a concrete curb on the easterly side of Carder Road;

20. North 09° 30' 51'' East, along the said intersection of the easterly side of Carder Road and the face of a concrete curb on the easterly side of Carder Road and its northerly projection thereof, 35.34 feet to a point;

21. North 16° 40' 16'' East, along the said easterly side of Carder Road, 98.56 feet to a point at the intersection of the easterly side of Carder Road and the face of a concrete curb on the easterly side of Carder Road;

22. North 17° 39' 33'' East, along the said intersection of the easterly side of Carder Road and the face of a concrete curb on the easterly side of Carder Road, 180.86 feet to a point;

23. North 23° 48' 41'' East, along the said intersection of the easterly side of Carder Road and the face of a concrete curb on the easterly side of Carder Road, 83.68 feet to a point of curve;

24. A curve to the right, along the said intersection of the easterly and southerly side of Carder Road and the face of a concrete curb on the easterly and southerly side of Carder Road, having a radius of 100.46 feet, a central angle of 69° 53' 28'' and an arc length of 122.55 feet to a point of tangent;

25. South 86° 17' 52'' East, continuing along the said intersection of the southerly side of Carder Road and the face of a concrete curb on the southerly side of Carder Road and its easterly projection thereof, 149.02 feet, crossing Hay Road to a point;

26. South 08° 57' 35'' West, along the easterly side of Hay Road, 120.18 feet to a point;

27. South 12° 12' 20'' East, 62.43 feet, crossing Andes Road to a point at the intersection of the southerly side of Andes Road and the face of a concrete curb on the southerly side of Andes Road;

28. A non-tangent curve to the right, along the said intersection of the southerly side of Andes Road and the face of a concrete curb on the southerly side of Andes Road, having a radius of 58.00 feet, a central angle of 48° 54' 20'' and an arc length of 49.51 feet to a point of tangent, said curve having a chord bearing and distance of North 70° 02' 51'' East, 48.02 feet;

29. South 85° 29' 59'' East, along the said intersection of the southerly side of Andes Road and the face of a concrete curb on the southerly side of Andes Road and its easterly projection thereof, 123.62 feet to a point;

30. South 85° 29' 44'' East, along the said intersection of the southerly side of Andes Road and the face of a concrete curb on the southerly side of Andes Road, 428.81 feet to a point;

31. South 85° 17' 33'' East, along the southerly face of a concrete curb on the southerly side of Andes Road, 107.02 feet to a point;

32. South 83° 11' 58'' East, along the said southerly face of a concrete curb on the southerly side of Andes Road, 49.20 feet to a point;

33. South 82° 30' 10'' East, along the said southerly face of a concrete curb on the southerly side of Andes Road, 49.51 feet to a point;

34. South 81° 33' 52'' East, along the said southerly face of a concrete curb on the southerly side of Andes Road, 86.61 feet to a point;

35. A non-tangent curve to the right, along the said southerly face of a concrete curb on the southerly side of Andes Road, having a radius of 8.50 feet, a central angle of 47° 16' 55'' and an arc length of 7.01 feet to a point, said curve having a chord bearing and distance of North 75° 41' 40'' East, 6.82 feet;

36. South 80° 39' 53'' East, along the said southerly face of a concrete curb on the southerly side of Andes Road, 8.32 feet to a point;

37. A non-tangent curve to the right, along the said southerly face of a concrete curb on the southerly side of Andes Road, having a radius of 8.00 feet, a central angle of 46° 10' 15'' and an arc length of 6.45 feet to a point, said curve having a chord bearing and distance of South 57° 34' 45'' East, 6.27 feet;

38. South 79° 00' 27'' East, along the said southerly face of a concrete curb on the southerly side of Andes Road, 41.54 feet to a point;

39. South 70° 49' 07'' East, along the said southerly face of a concrete curb on the southerly side of Andes Road, 61.48 feet to a point of curve;

40. A curve to the right, along the southwesterly face of a concrete curb on the southwesterly side of Andes Road, having a radius of 257.96 feet, a central angle of 21° 12' 48'' and an arc length of 95.51 feet to a point of compound curve;

41. A curve to the right, along the westerly face of a concrete curb on the westerly side of Andes Road, having a radius of 154.12 feet, a central angle of 48° 42' 34'' and an arc length of 131.02 feet to a point of tangent;

42. South 00° 53' 45'' East, along the intersection of the westerly side of Andes Road and the face of a concrete curb on the westerly side of Andes Road, 83.86 feet to a point of curve;

43. A curve to the left, along the said intersection of the westerly side of Andes Road and the face of a concrete curb on the westerly side of Andes Road, having a radius of 148.98 feet, a central angle of 16° 25' 57'' and an arc length of 42.73 feet to a point of tangent; and,

44. South 17° 19' 42'' East, along the said intersection of the westerly side of Andes Road and the face of a concrete curb on the westerly side of Andes Road and its southerly projection thereof, 155.84 feet to the point of beginning.

The above bearings are based on Grid North, New York State Plane Coordinates, East Zone, NAD 1983.

The above-described parcel is more particularly shown and described on a survey plat by Clough, Harbour & Associates, LLP.

Containing 21.69 acres, more or less.

Tract 01-102

All that certain tract or parcel of land lying and being situated on Governors Island in the City of New York, New York County, State of New York, and being more particularly described as follows:

Beginning at a point on the northerly side of Dock 102 on a line being the westerly projection of the northerly face of the lower concrete seawall, said point of beginning being South 74° 39' 57'' East, 535.78 feet from the southeasterly corner of Building 107, said point of beginning being further described as being at North 677,051.57 and East 627,303.76, said coordinates being based upon the New York State Plane Coordinates, East Zone, NAD 1983; thence from said point of beginning, severing the lands of the subject owner, the following eight (8) courses and distances:

1. South 88° 24' 18'' East, to and along said northerly face of the lower concrete seawall, 84.29 feet to a point;

2. South 01° 35' 54'' West, continuing along the easterly face of the lower concrete seawall, 22.82 feet to a point;

3. South 87° 30' 04'' East, along the wood face of Dock 102, 100.26 feet to a point;

4. South 02° 05' 32'' West, continuing along the said wood face of Dock 102, 19.27 feet to a point;

5. North 87° 31' 51'' West, continuing along the said wood face of Dock 102, 101.94 feet to a point on the easterly face of a stone or granite seawall;

6. South 00° 14' 20'' West, along the said easterly face of the stone or granite seawall, 6.34 feet to a point;

7. South 89° 25' 54'' West, to and along the southerly side (back) of the southerly concrete curb, 80.69 feet to a point; and,

8. North 00° 34' 06'' West, 51.53 feet to the point of beginning.

The above bearings are based on Grid North, New York State Plane Coordinates, East Zone, NAD 1983.

The above-described parcel is more particularly shown and described on a survey plat by Clough, Harbour & Associates, LLP.

Containing 0.14 of an acre, more or less (6,084 +/- square feet).

Tract 01-103

All that certain tract or parcel of land lying and being situated on Governors Island in the City of New York, New York County, State of New York, and being more particularly described as follows:

Beginning at a point at the intersection of the easterly side of Andes Road and the face of the concrete curb on the easterly side of Andes Road, said point of beginning being South 59° 06' 01'' West, 60.15 feet from the southeasterly corner of Building 107, said point of beginning being further described as being at North 677,162.36 and East 626,735.48, said coordinates being based upon the New York State Plane Coordinates, East Zone, NAD 1983; thence from said point of beginning, severing the lands of the subject owner, the following thirteen (13) courses and distances:

1. North 17° 19' 42'' West, 50.11 feet along the said intersection of the easterly side of Andes Road and the face of the concrete curb on the easterly side of Andes Road to a point of curve;

2. A curve to the right, along the said intersection of the easterly side of Andes Road and the face of the concrete curb on the easterly side of Andes Road, having a radius of 133.04 feet, a central angle of 16° 26'' 45' and an arc length of 38.19 feet to a point of tangent;

3. North 00° 53' 45'' West, along the said intersection of the easterly side of Andes Road and the face of the concrete curb on the easterly side of Andes Road, 83.86 feet to a point of curve;

4. A curve to the left, along the said intersection of the easterly side of Andes Road and the face of the concrete curb on the easterly side of Andes Road, having a radius of 169.95 feet, a central angle of 10° 50' 45'' and an arc length of 32.17 feet to a point of reverse curve;

5. A curve to the right, along the said intersection of the easterly side of Andes Road and the face of the concrete curb on the easterly side of Andes Road, having a radius of 20.64 feet, a central angle of 108deg; 22' 59'' and an arc length 39.04 feet to a point of tangent;

6. South 83° 21' 31'' East, along the intersection of the southerly side of the access road between Building 107 and Building 108 and the face of the concrete curb on the southerly side of said access road, 69.23 feet to a point of curve;

7. A curve to the right, along the said intersection of the southerly side of the access road between Building 107 and Building 108 and the face of the concrete curb on the southerly side of said access road, having a radius of 16.08 feet, a central angle of 78° 17' 48'' and an arc length of 21.97 feet to a point of tangent;

8. South 05° 03' 43'' East, along the intersection of the westerly side of the access road between Building 107 and Building 135A, B & C and the face of the concrete curb on the westerly side of the access road, 10.73 feet to a point;

9. South 06° 11' 02'' West, 106.20 feet to a point;

10. South 08° 26' 06'' West, 37.63 feet to a point;

11. South 06° 06' 28'' West, 39.06 feet to a point;

12. North 85° 53' 21'' West, along the southerly side of the retaining wall and steps/banister, 20.09 feet to a point; and,

13. South 72° 31' 49'' West, through the sidewalk adjacent to Building 106, 41.42 feet to the point of beginning.

The above bearings are based on Grid North, New York State Plane Coordinates, East Zone, NAD 1983.

The above-described parcel is more particularly shown and described on a survey plat by Clough, Harbour & Associates, LLP.

Containing 0.44 of an acre, more or less (19,354 +/- square feet).

Tract 01-104

All that certain tract or parcel of land lying and being situated on Governors Island in the City of New York, New York County, State of New York, and being more particularly described as follows:

Beginning at a point on the northerly side of Carder Road on the southerly projection of the easterly face (back) of the concrete curb at the east end of the parking lot immediately adjacent to Building 140, said point of beginning being South 80° 04' 13'' East, 115.55 feet from the southeasterly corner of Building 140, said point of beginning being further described as being at North 677,594.25 and East 626,794.40, said coordinates being based upon the New York State Plane Coordinates, East Zone, NAD 1983; thence from said point of beginning, severing the lands of the subject owner, the following ten (10) courses and distances:

1. North 83° 26' 43'' West, 87.06 feet to a point in said Carder Road;

2. North 75° 34' 32'' West, 181.16 feet to a point in said Carder Road;

3. North 14° 25' 29'' East, 4.94 feet to a point at the intersection of the northerly side of Carder Road and the face of the concrete curb on the northerly side of Carder Road;

4. North 75° 50'11'' West, along the said intersection of the northerly side of Carder Road and the face of the concrete curb on the northerly side of Carder Road, 12.81 feet to a point;

5. A non-tangent curve to the right, along the said intersection of the northerly side of Carder Road and the face of the concrete curb on the northerly side of Carder Road, having a radius of 12.88 feet, a central angle of 75° 32' 13'' and an arc length of 16.98 feet to a point, said curve having a chord bearing and distance of North 19° 31' 30'' West, 15.78 feet to a point;

6. North 35° 19' 06'' East, along the intersection of the easterly side of the Soissons Docks access road and the face of the concrete sidewalk on the easterly side of the Soissons Docks access road, 57.05 feet to a point;

7. South 50° 30' 54'' East, 7.92 feet to a point on the eastern side of a brick retaining wall;

8. North 35° 17' 38'' East, along and parallel to the said eastern side of a brick retaining wall, 15.36 feet to a point on the southerly side of the granite seawall;

9. South 75° 38' 30'' East, along the southerly side of the granite seawall, 255.90 feet to a point; and,

10. South 14° 18' 59'' West, 70.64 feet to the point of beginning.

The above bearings are based on Grid North, New York State Plane Coordinates, East Zone, NAD 1983.

The above-described parcel is more particularly shown and described on a survey plat by Clough, Harbour & Associates, LLP.

Containing 0.51 of an acre, more or less (22,265 +/- square feet).

Billing code 3195-01-P

[FR Doc. 03-3548

Filed 2-10-03; 9:06 am]

Billing Code 3195-01-C